DEPARTMENT OF DEFENSE

Office of the Secretary

Defense Science Board

AGENCY: Department of Defense.

ACTION: Notice of Advisory Committee Meeting.

SUMMARY: The Defense Science Board (DSB) Task Force on Vulnerability Assessment will meet in closed session on November 13-14, 2001, at SAIC, 4001 Fairfax Drive, Suite 500, Arlington, VA; and on November 29-30, 2001, at Rockefeller University, New York City, NY. The Task Force review will focus on providing the Secretary of Defense an alternative analytic perspective for assessing potential terrorist attacks on the United States within the next 12 months.

The mission of the Defense Science Board is to advise the Secretary of Defense and the Under Secretary of Defense for Acquisition, Technology & Logistics on scientific and technical matters as they affect the perceived needs of the Department of Defense. At these meetings, the Defense Science Board Task Force will focus on “out-of-the-box” thinking and scenarios to assess vulnerabilities to human life, economy, military power, domestic political morale and stability, external political influence and prestige. The Task Force will provide illustrative scenarios and suggested methods for ongoing threat and vulnerability assessments, particularly during Operation Enduring Freedom.

In accordance with section 10(d) of the Federal Advisory Committee Act, Pub. L. No. 92-463, as amended (5 U.S.C. App. II), it has been determined that these Defense Science Board meetings, concern matters listed in 5 U.S.C. 552b(c)(1), and that accordingly these meetings will be closed to the public.

Due to critical mission requirements and the short time frame to accomplish this requirement, there is insufficient time to provide timely notice required by section 10(a)(2) of the Federal Advisory Committee Act and subsection 101-6.1015(b) of the GSA Final Rule on Federal Advisory Committee Act and subsection 101-6.1015(b) of the GSA Final Rule on Federal Advisory Committee Management, 41 CFR part 101-6, which further requires publication at least 15 calendar days prior to the first meeting of the Task Force on Vulnerability Assessment.

Dated: November 9, 2001.
L. M. Bynum,
Alternate OSD Federal Register Liaison Officer, Department of Defense.

[FR Doc. 01-28893 Filed 11-19-01; 8:45 am]

BILLING CODE 5001-08-M